DEPARTMENT OF ENERGY

Notice of Availability: Office of Civilian Radioactive Waste Management; National Transportation Plan, Revision 0

AGENCY: Department of Energy.

ACTION: Notice of availability.

SUMMARY: The Department of Energy's (DOE's) Office of Civilian Radioactive Waste Management (OCRWM) is making available its National Transportation Plan, Revision 0 (DOE/RW-0603, January 2009) for public review and comment. The National Transportation Plan outlines OCRWM's current strategy and planning for developing and implementing the transportation system that will be required to transport spent nuclear fuel (SNF) and high-level radioactive waste (HLW) from where the material is generated or stored to the proposed repository at Yucca Mountain, Nevada. OCRWM does not expect actual shipments to begin before 2020, but has started the transportation planning process well in advance to ensure the concerns and input of State, Tribal and local officials, as well as other involved and interested parties, are taken into account. OCRWM's National Transportation Plan will be updated as appropriate to accommodate changes to the waste management system, reflect progress in the development and implementation of the transportation system, and incorporate stakeholder and public comments. OCRWM also anticipates that detailed implementation plans will be developed in collaboration with the stakeholder community.

DATES: Interested persons are invited to submit comments on or before April 30, 2009.

ADDRESSES: The document is being made available on the OCRWM Web site at http://www.ocrwm.doe.gov. Persons wishing to receive a print copy via regular mail should contact: Mr. Frank Moussa, U.S. Department of Energy, OCRWM Office of Logistics Management, 1000 Independence Avenue, SW., Washington, DC 20585-0001. Written comments should be submitted electronically via the Web at http://www.ocrwm.doe.gov, or by regular mail to Mr. Frank Moussa at the address identified above.

SUPPLEMENTARY INFORMATION: The Nuclear Waste Policy Act of 1982, as amended (NWPA) establishes a process for the siting, construction and operation of one or more national repositories for permanent disposal of the Nation's SNF and HLW. Pursuant to the NWPA, Yucca Mountain has been designated as the site for the Nation's first SNF and HLW repository, and DOE has submitted an application to the Nuclear Regulatory Commission (NRC) for approval to construct the repository. As part of its obligations under the NWPA, DOE is also responsible for developing and implementing a system to transport SNF and HLW to the Yucca Mountain repository.

OCRWM's National Transportation Plan, Revision 0 describes the elements of the national transportation system that OCRWM is developing, the phases of that development effort, and how OCRWM will collaborate with stakeholders in the development and implementation of that system. This Plan describes the transportation system that will be needed when the repository is operating at full capacity. The transportation system will be developed in stages that are consistent with waste acceptance schedules and the start-up and subsequent operation of the repository. The transportation infrastructure will continue to expand until full operating capability is achieved. The development and operations of the OCRWM transportation system will build on many decades of safe and secure transportation of SNF in the United States and abroad.

This Plan will be updated as appropriate to reflect progress in the development and implementation of the transportation system, accommodate changes to the waste management system, and incorporate stakeholder and public comments. OCRWM also anticipates that detailed implementation plans will be developed in the future in collaboration with the stakeholder community.

Issued in Washington, DC, on January 12, 2009.
Edward F. Sproat III,
Director, Office of Civilian Radioactive Waste Management, U.S. Department of Energy.

[FR Doc. E9-894 Filed 1-15-09; 8:45 am]

BILLING CODE 6450-01-P